DEPARTMENT OF HEALTH AND HUMAN SERVICES

National Institutes of Health

National Center for Complementary and Alternative Medicine Announcement of Workshop on the Deconstruction of Back Pain

ACTION: Notice.

SUMMARY: The National Center for Complementary and Alternative Medicine (NCCAM) invites the public to observe at a Workshop on the Deconstruction of Back Pain. The purpose of this workshop is to identify what types of studies are needed to better understand chronic back pain, to assess new interventions and management strategies for back pain as a chronic condition, to evaluate the utility of existing datasets and ongoing cohort studies for future studies of chronic back pain, and to determine what study designs should be utilized to look at the natural history of back pain. This information will help inform future research directions for NIH and the biomedical scientific field. This workshop will be divided into five sessions that will feature presentations and discussions focusing on the current understanding and complexity of chronic back pain, characterization of research, and the epidemiology and psychological components of chronic back pain.

The Workshop will take place on May 10-11, 2010. Those interested are encouraged to participate via Videocast.

Background: The National Center for Complementary and Alternative Medicine (NCCAM) was established in 1999 with the mission of exploring complementary and alternative healing practices in the context of rigorous science, training CAM researchers, and disseminating authoritative information to the public and professionals. NCCAM funds research grants that explore the science of CAM. For more information, see http://nccam.nih.gov/research/nccamfunds.htm.

Participating: The Workshop will be broadcast on the Internet and archived on http://www.videocast.nih.gov/. Viewers may submit questions for the presenters and panelists by e-mailing nccambkpnwkshp@mail.nih.gov with questions or comments.

FOR FURTHER INFORMATION CONTACT: To request more information, call Edward Culhane at 301-594-3391 or e-mail culhanee@mail.nih.gov.

Dated: April 7, 2010.
Partap S. Khalsa,
Program Officer, Division of Extramural Research, National Center for Complementary and Alternative Medicine, National Institutes of Health.

[FR Doc. 2010-8804 Filed 4-15-10; 8:45 am]

BILLING CODE 4140-01-P